DEPARTMENT OF COMMERCE

National Oceanic and Atmospheric Administration

RIN 0648-XF423

Pacific Fishery Management Council; Public Meeting

AGENCY: National Marine Fisheries Service (NMFS), National Oceanic and Atmospheric Administration (NOAA), Commerce.

ACTION: Notice of public meeting (webinar).

SUMMARY: The Pacific Fishery Management Council's (Pacific Council) Coastal Pelagic Species Management Team (CPSMT) and Coastal Pelagic Species Advisory Subpanel (CPSAS) will hold a meeting via webinar to consider topics on the June 2017 Council meeting agenda, and develop supplemental reports. The meeting is open to the public.

DATES: The webinar meeting will be held Wednesday, May 31, 2017, from 2 p.m. to 4 p.m., or until business for the day has been completed.

ADDRESSES: The meeting will be held via webinar. A public listening station is available at the Pacific Council office (address below). To attend the webinar, visit: https://attendee.gotowebinar.com/register/2403858256045989891. Once registered, you will be sent a confirmation email with access information. You may also access the webinar by visiting http://www.gotomeeting.com/online/webinar/join-webinar. Then enter the webinar ID, which is 660-750-875, and enter your name and email address. After logging on, call this TOLL number: +1 (213) 929-4232, then enter the Attendee phone audio access code: 492-595-188, then enter your audio, which will be shown after joining the webinar. Note: We have disabled Mic/Speakers on GoToMeeting as an option and require all participants to use a telephone or cell phone to participate. You may send an email to Mr. Kris Kleinschmidt at kris.kleinschmidt@noaa.gov or contact him at (503) 820-2280, extension 411 for technical assistance.

Council address: Pacific Fishery Management Council, 7700 NE Ambassador Place, Suite 101, Portland, OR 97220.

FOR FURTHER INFORMATION CONTACT: Kerry Griffin, Pacific Council; telephone: (503) 820-2409.

SUPPLEMENTARY INFORMATION: The purpose of the meeting is to discuss and consider relevant topics on the June Pacific Council meeting agenda, and to develop supplemental reports to be included in supplemental briefing book materials for the June Council meeting. Primary topics include: (1) Pacific mackerel assessment and management measures, (2) aerial survey methodology final approval, (3) NMFS Office of Law Enforcement strategic review, and (4) administrative matters and future meeting planning. Other topics may discussed, and public comment may be taken at the discretion of the CPSMT and CPSAS Chairs.

Special Accommodations

This meeting is physically accessible to people with disabilities. Requests for sign language interpretation or other auxiliary aids should be directed to Mr. Kris Kleinschmidt (503) 820-2411 at least 10 days prior to the meeting date.

Dated: May 10, 2017.
Tracey L. Thompson,
Acting Deputy Director, Office of Sustainable Fisheries, National Marine Fisheries Service.

[FR Doc. 2017-09749 Filed 5-12-17; 8:45 am]

BILLING CODE 3510-22-P